GENERAL SERVICES ADMINISTRATION

[Notice-FAS-2015-01; Docket No. 2015-0002; Sequence 11]

Modernizing the Federal Supply Schedule Program: Standardization of Part Number Data

AGENCY: Federal Acquisition Service, General Services Administration

ACTION: Notice.

SUMMARY: The Federal Acquisition Service (FAS) of the General Services Administration (GSA) is publishing this notice in order to clarify the structured data elements required under the Federal Supply Schedule (FSS) program price list clause.

DATES: May 13, 2015.

FOR FURTHER INFORMATION CONTACT: Ms. Denise Alley, Procurement Analyst, FAS Office of Acquisition Management, at denise.alley@gsa.gov or 703-605-2756.

SUPPLEMENTARY INFORMATION:

A. Purpose

The purpose of this notice is to clarify for existing FSS contractors that pursuant to the price list clause: (1.) Manufacturer Part Number (MPN) data is required for all awarded products, and (2.) Universal Product Code Type A (UPC-A) data is required for all awarded products for which this information is commercially available. FSS solicitation instructions have already been updated to clarify MPN and UPC-A data requirements for new offerors. This notice is solely intended to provide clarification for existing FSS contractors.

FAS plans to begin efforts to obtain this data from existing FSS contractors 45 days after publication of this notice in the Federal Register.

B. Background

The FAS is embarking on several initiatives to improve the quality of its offerings under the FSS program. A major piece of this effort involves the standardization of part number data in order to improve the quality of the descriptive data available to customers in FSS price lists published on gsaadvantage.gov. The goal is to provide customer agencies with quality, meaningful, complete data to better search and compare products, thereby enhancing competition and saving taxpayer dollars. This endeavor is a critical piece of a larger effort to modernize the FSS program as a whole, under which FAS aims to increase efficiency and effectiveness, facilitate the purchase of total solutions, maximize competition, and promote small business utilization across Government.

The availability of MPN and UPC-A data improves overall data integrity, encouraging additional business from customers looking for the ability to quickly and accurately compare identical products. The standardization of part number data allows for greater transparency and improved business intelligence that will enable customers to make smarter, data-driven buying decisions. Collectively, these benefits will yield increased customer confidence as GSA works to make the FSS program the Government's premier acquisition vehicle.

Unaltered MPN data is required for all products, except where the manufacturer has not assigned a part number to identify the item. UPC-A data is required for all products for which this information is commercially available. The FAS performed market research to determine the Federal Supply Schedules and Special Item Numbers (SINs) under which UPC-A data is commercially available—a complete listing can be viewed at http://eoffer.gsa.gov.

MPN and UPC-A data is widely utilized throughout the commercial marketplace. FSS contractors are simply providing the existing MPN and UPC-A data that is used to classify their awarded FSS products. Many FSS contractors have already provided this data in their price lists. In fact, approximately 8 million MPNs and 1.3 million unique UPC-A codes are currently listed in FSS contractor price lists published on gsaadvantage.gov.

Obtaining MPN and UPC-A data from existing FSS contractors will allow GSA to acquire baseline information across the contracts already awarded under the FSS program. A bilateral “mass modification” will be distributed by GSA to all contractors with FSS contracts that include products. FSS contractors will be required to sign the modification and provide this data in their price lists within 60 days of distribution.

FSS contractors that do not provide this data will have noncompliant products “grayed-out” (i.e., no longer accessible/visible) within GSA's customer-facing eTools (GSA Advantage!, eBuy, etc.). In addition, GSA may consider noncompliance when determining whether to exercise the next contract option period. GSA might choose not to exercise the next option period, thereby allowing the contract to expire.

Dated: May 7, 2015.
Lisa P. Grant,
Deputy Assistant Commissioner, Office of Acquisition Management, Federal Acquisition Service.

[FR Doc. 2015-11534 Filed 5-12-15; 8:45 am]

BILLING CODE 6820-89-P